DEPARTMENT OF TRANSPORTATION

Federal Railroad Administration

Environmental Impact Statement for the California High-Speed Train Project from Merced to Sacramento, CA

AGENCY: Federal Railroad Administration (FRA), U.S. Department of Transportation (DOT).

ACTION: Notice of intent to prepare an environmental impact statement.

SUMMARY: This notice is to advise the public that FRA and the California High-Speed Rail Authority (Authority) will jointly prepare a project Environmental Impact Statement (EIS) and a project Environmental Impact Report (EIR) for the Merced to Sacramento Section of the Authority's proposed California High-Speed Train (HST) System in compliance with relevant State and Federal laws, in particular the National Environmental Policy Act (NEPA) and the California Environmental Quality Act (CEQA). The San Joaquin Regional Rail Commission (SJRRC) is interested in providing intercity and commuter regional rail passenger services within this section of the HST System connecting to the Altamont Corridor Rail Project. FRA is issuing this Notice to alert interested parties and solicit public and agency input into the development of the scope of the EIS and to advise the public that outreach activities conducted by the Authority and their representatives will be considered in the preparation of the combined EIR/EIS. The U.S. Army Corps of Engineers may serve as a cooperating agency for the preparation of the EIR/EIS.

In 2001, the Authority and FRA started a tiered environmental review process for the HST System and in 2005, completed the first tier California High-Speed Train Program EIR/EIS (Statewide Program EIR/EIS) and approved the statewide HST System for intercity travel in California between the major metropolitan centers of Sacramento and the San Francisco Bay Area in the north, through the Central Valley, to Los Angeles and San Diego in the south. The approved HST System would be about 800-miles long, with electric propulsion and steel-wheel-on-steel-rail trains capable of maximum operating speeds of 220 miles per hour (mph) on a mostly dedicated system of fully grade-separated, access-controlled steel track with state-of-the-art safety, signaling, communication, and automated train control systems. In approving the HST System, the Authority and FRA also selected corridors/general alignments and station location options throughout most of the system. The Statewide Program EIR/EIS selected the Union Pacific Railroad Company (UPRR) corridor for the high-speed train route from Sacramento south to Stockton and the Burlington Northern Santa Fe (BNSF) railroad corridor from Stockton south to Merced. Consistent with the Clean Water Act implementing regulations and because the UPRR alignment option may have more potential impacts to waters and biological resources, the Central California Traction (CCT) alignment between Sacramento and Stockton will also be evaluated as part of the Project EIR/EIS.

In 2008, the Authority and FRA completed a second program EIR/EIS to evaluate and select general alignments and station locations within the broad corridor between and including the Altamont Pass and the Pacheco Pass to connect the Bay Area and Central Valley portions of the HST System. The Authority and FRA selected the Pacheco Pass with the San Francisco and San Jose termini network alternative, as well as preferred corridor alignments and station location options. The UPRR corridor was selected as the preferred alignment through the portion of the Central Valley from south of Stockton to Merced and the BNSF corridor was recommended for further study in this area for the Project EIR/EIS.

The preparation of the Merced to Sacramento HST Project EIR/EIS will involve the development of preliminary engineering designs and the assessment of potential environmental effects associated with the construction, operation, and maintenance of the HST System, including track, ancillary facilities, and stations along the preferred alternative corridors from Merced to Sacramento.

DATES: Written comments on the scope of the Merced to Sacramento HST Project EIR/EIS should be provided to the Authority by 5 p.m., Friday, February 26, 2010. Public scoping meetings are scheduled from January 20, 2010 to January 28, 2010, at the times, dates, and locations listed below.

ADDRESSES: Written comments on the scope of this EIR/EIS should be sent to Mr. Dan Leavitt, Deputy Director, ATTN: Merced to Sacramento HST Project EIR/EIS, California High-Speed Rail Authority, 925 L Street, Suite 1425, Sacramento, CA 95814, or via e-mail with subject line “Merced to Sacramento Section” to: comments@hsr.ca.gov. Comments may also be provided orally or in writing at the scoping meetings scheduled at the following locations:

• Stockton, CA, January 20, 2010, from 3 p.m. to 7 p.m., San Joaquin Council of Governments, 555 E. Weber Avenue, Stockton, CA.

• Merced, CA, January 21, 2010, from 3 p.m. to 7 p.m., Merced Senior Center, 755 W. 15th Street, Merced, CA.

• Sacramento, CA, January 27, 2010, from 3 p.m. to 7 p.m., Amtrak Depot, Model Room, 301 I Street, Sacramento, CA.

• Modesto, CA, January 28, 2010, from 3 p.m. to 7 p.m., Modesto Center Plaza, 1000 L Street, Modesto, CA.

FOR FURTHER INFORMATION CONTACT: Mr. David Valenstein, Environmental Program Manager, Office of Railroad Development, Federal Railroad Administration, 1200 New Jersey Avenue, SE (Mail Stop 20), Washington, DC 20590 (telephone (202) 493-6368); or Mr. Dan Leavitt, Deputy Director, ATTN: Merced to Sacramento HST Project EIR/EIS, California High-Speed Rail Authority, 925 L Street, Suite 1425, Sacramento, CA 95814 (telephone (916) 324-1541).

SUPPLEMENTARY INFORMATION:

Scoping

The FRA, the Authority, and SJRRC invite all interested individuals, organizations, public agencies, and Native American Tribes to comment on the scope of the EIS, including the project's purpose and need, the alternatives to be studied, the impacts to be evaluated, and the evaluation methods to be used. Comments should focus on: Alternatives that may be less costly or have fewer environmental or community impacts while achieving similar transportation objectives and the identification of any significant social, economic, or environmental issues related to potential alternatives.

Agency Responsibilities

The Authority was established in 1996 and is authorized and directed by statute to undertake the planning and development of a proposed statewide HST network that is fully coordinated with other public transportation services. The Authority adopted a Final Business Plan in June 2000, which reviewed the economic feasibility of an 800-mile-long HST capable of operating speeds in excess of 200 mph on a mostly dedicated, fully grade-separated state-of-the-art track. The Authority released updated business plans in November 2008, and on December 14, 2009.

The FRA has responsibility for overseeing the safety of railroad operations, including the safety of any proposed high-speed ground transportation system. For the proposed project, FRA may need to take certain regulatory actions prior to operation. The FRA is also authorized to provide Federal funding for intercity passenger rail capital investments through high-speed and intercity passenger rail grant programs created in the Passenger Rail Investment and Improvement Act of 2008.

The SJRRC manages and operates the current Altamont Commuter Express (ACE) service between Stockton and San Jose. The SJRRC and the Authority have signed a Memorandum of Understanding (MOU), which recognizes their mutual interest in the development of this section of the HST System and that establishes SJRRC as a local partner for the development of the Merced to Sacramento HST Project.

Background

In 2005, the Authority and FRA completed the Statewide Program EIR/EIS for the Proposed California High-Speed Train System High-Speed as the first phase of a tiered environmental review process. The Authority certified the Statewide Program EIR under CEQA and approved the proposed HST System. FRA issued a Record of Decision on the Statewide Program EIR/EIS as required under NEPA. The Statewide Program EIR/EIS established the purpose and need for the HST System and compared the proposed HST System with both a No Project/No Action Alternative and a Modal Alternative. In approving the Statewide Program EIR/EIS, the Authority and FRA selected the HST Alternative, selected certain corridors/general alignments and general station locations for further study, incorporated mitigation strategies and design practices, and specified further measures to guide the development of the HST System during the site-specific project environmental review to avoid and minimize potential adverse environmental impacts. Additional consideration will be given to the potential operation of a regional passenger rail service in this section of the Authority's HST System infrastructure by SJRRC, who may potentially develop additional regional stations for such a service.

The Merced to Sacramento HST Project EIR/EIS will tier from the Statewide Program EIR/EIS and the Bay Area to Central Valley HST Program EIR/EIS in accordance with Council on Environmental Quality (CEQ) regulations, (40 CFR 1508.28), the State CEQA Guidelines (14 California Code of Regulations 15168(b)) and FRA's Procedures for Considering Environmental Impacts (64 FR 28545 (May 26, 1999)). Tiering ensures that the Merced to Sacramento HST Project EIR/EIS builds upon program analysis and decisions made with the Statewide Program EIR/EIS and the Bay Area to Central Valley HST Program EIR/EIS.

The Merced to Sacramento HST Project EIS

The Project EIR/EIS will describe site-specific environmental impacts, identify specific mitigation measures to address those impacts, and will incorporate design features to avoid and minimize potential adverse environmental impacts. The FRA and the Authority will assess the site characteristics, size, nature, and timing of the proposed project to determine whether the impacts are potentially significant and whether impacts can be avoided or mitigated. This Project EIR/EIS will identify and evaluate reasonable and feasible site-specific alignment alternatives, and evaluate the impacts of construction, operation, and maintenance of the HST System. Information and documents regarding this HST environmental review process will be made available through the Authority's Internet site: http://www.cahighspeedrail.ca.gov/.

Purpose and Need of the Proposed Project: The purpose of Merced to Sacramento HST Project is to implement the statewide HST System along the corridors selected in program-level documents that will: (1) Link Southern California cities, the Central Valley, Sacramento, and Bay Area; (2) provide a new transportation option that increases mobility throughout California; (3) provide reliable HST service that delivers predictable and consistent travel times using electric powered steel wheel trains; and (4) provide a transportation system that is commercially viable. The need for an HST System is directly related to the expected growth in population, and increases in intercity travel demand in California over the next twenty years and beyond. With the growth in travel demand, there will be an increase in travel delays arising from the growing congestion on California's highways and at its airports. In addition, there will be negative effects on the economy, quality of life, and air quality in and around California's metropolitan areas from an increasingly congested transportation system that will become less reliable as travel demand increases. The intercity highway system, commercial airports, and conventional passenger rail serving the intercity travel market are currently operating at or near capacity, and will require large public investments for maintenance and expansion to meet existing demand and future growth. The proposed HST System is designed to address some of the social, economic and environmental problems associated with transportation congestion in California. In addition to serving a statewide need, the project will consider the viability of sharing track with regionally operated services which may serve additional regional stations (that would not be used by HST trains) located between the HST stations identified on the statewide HST System.

Alternatives: The Merced to Sacramento HST Project EIR/EIS will consider a No Action or No Project Alternative and an HST Alternative for the Merced to Sacramento section.

No Action Alternative: The No Action Alternative (No Project or No Build) represents the conditions in the corridor as it existed in 2009, and as it would exist based on programmed and funded improvements to the intercity transportation system and other reasonably foreseeable projects through 2035, taking into account the following sources of information: the State Transportation Improvement Program (STIP) and Regional Transportation Plans (RTPs) for all modes of travel, airport plans, intercity passenger rail plans, as well as city and county plans.

HST Alternative: The Authority proposes to construct, operate and maintain an electric-powered steel-wheel-on-steel-rail HST System, about 800 miles long, capable of operating speeds of 220 mph on mostly dedicated, fully grade-separated, access controlled tracks, with state-of-the-art safety, signaling, and automated train control systems. As part of the Bay Area to Central Valley HST Program EIR/EIS, the Authority and FRA selected the UPRR railroad alignment through the portion of the Central Valley from Merced to south of Stockton as the preferred alternative. This Project EIR/EIS will also evaluate the BNSF railroad alignment in this part of the Central Valley because of the uncertainty of negotiating with the UPRR for some of their right-of-way. In the Statewide Program EIR/EIS, the Authority and FRA selected the UPRR alignment as the preferred alternative from Stockton to Sacramento. However, because the Statewide Program EIR/EIS concluded that the UPRR alignment has more potential impacts to waters and biological resources than the CCT alignment option, the CCT alignment will also be evaluated in this Project EIR/EIS between Stockton and Sacramento. In the Central Valley, the HST System would operate at speeds up to 220 mph on tracks separate from the existing BNSF and UPRR tracks. Further engineering studies to be undertaken as part of this EIR/EIS process will examine and refine alignments in the BNSF and UPRR corridors. The entire alignment would be grade-separated. In addition, alternative sites for right-of-way maintenance, train storage facilities, and a fleet storage/service and inspection/light maintenance facility in Sacramento will be evaluated. Finally, features necessary to accommodate connections to the Altamont Rail Corridor Project between Stockton and Modesto will be identified and evaluated.

Preferred station locations selected by the Authority and FRA through the Statewide Program EIR/EIS will be evaluated for Sacramento and Stockton. These stations are downtown Sacramento, and downtown Stockton. In addition, the preferred downtown Modesto station location selected by the Authority and FRA through the Bay Area to Central Valley HST Program EIR/EIS on the UPRR alignment and the “Amtrak Briggsmore” site on the BNSF alignment will also be evaluated in the Merced to Sacramento HST Project EIR/EIS to serve the Modesto area. The station in Merced will be analyzed in the separate EIR/EIS for the Merced to Fresno section of the HST System. Alternative station sites at or near the selected station locations may be identified and evaluated. Additional regional stations which potentially could be served by regional trains (but not HST services) may also be identified and evaluated.

The EIS Process

The purpose of the EIR/EIS process is to explore in a public setting the potentially significant effects of implementing the proposed action on the physical, human, and natural environment. The FRA and the Authority will continue the tiered evaluation of all significant environmental, social, and economic impacts of the construction and operation of the Merced to Sacramento Section of the HST System. Areas of investigation will be developed during the scoping process and may include, but not be limited to, transportation impacts; safety and security; land use and zoning; indirect and cumulative impacts; land acquisition, displacements, and relocations; cultural resource impacts, including impacts on historical and archaeological resources and parklands/recreation areas; neighborhood compatibility and environmental justice; natural resource impacts including air quality, wetlands, water resources, noise, vibration, energy, wildlife; and ecosystems, including endangered species and temporary construction impacts. Measures to avoid, minimize, and mitigate adverse impacts will be identified and evaluated.

FRA and the Authority will comply with all environmental laws, regulations, and executive orders applicable to the proposed project during the environmental review process to the maximum extent practicable. These requirements include, but are not limited to, the regulations of the CEQ implementing NEPA (40 CFR parts 1500-1508), State CEQA Guidelines (14 California Code of Regulations 15168(b)) and FRA's Procedures for Considering Environmental Impacts (64 FR 28545, May 26, 1999), project-level air quality conformity regulation of the U.S. Environmental Protection Agency (EPA) (40 CFR part 93(b)), Section 404(b)(1) EPA guidelines (40 CFR part 230), Executive Orders 11988, 11990, and 12898 regarding floodplains, wetlands, and environmental justice, respectively, Section 106 of the National Historic Preservation Act (36 CFR part 800), Section 7 of the Endangered Species Act (50 CFR part 402), and Section 4(f) of the Department of Transportation Act (49 USC 303). Measures to avoid, minimize, and mitigate all adverse impacts will be identified and evaluated.

This EIR/EIS process will also continue the NEPA/Clean Water Act Section 404 integration process established through the Statewide Program EIR/EIS process. The EIR/EIS will evaluate project alignment alternatives and station and maintenance facility locations to support a determination of the Least Environmentally Damaging Practicable Alternative (LEDPA) by the U.S. Army Corps of Engineers.

In concert with the spirit of the CEQ's NEPA regulations, FRA will encourage incorporation by reference (40 CFR 1502.21) of preceding planning and environmental documents. Also, it is one of the mandates of the CEQ regulations that Federal agency's reduce paperwork (§ 1500.4), produce a reasonable number of pages without being overwhelming (§ 1502.7) and create environmental documents that are written in plain language and are highly accessible to the reader (§ 1502.8). The NEPA document will emphasize graphics, virtual simulation, and an accessible narrative format. Technical documentation will be established in appendices.

Scoping and Comments: FRA encourages broad participation in the EIS process during scoping and review of the resulting environmental documents. Comments are invited from all interested agencies and the public to ensure the full range of issues related to the proposed action and reasonable alternatives are addressed and all significant issues are identified. In particular, FRA is interested in learning whether there are areas of environmental concern where there might be a potential for significant site-specific impacts from the Merced-Sacramento Section of the HST System. Public agencies with jurisdiction are requested to advise FRA and the Authority of the applicable permit and environmental review requirements of each agency, and the scope and content of the environmental information germane to the agency's statutory responsibilities relevant to the proposed project. Public agencies are requested to advise FRA if they anticipate taking a major action in connection with the proposed project and if they wish to cooperate in the preparation of the Project EIR/EIS. Public scoping meetings have been scheduled as an important component of the scoping process for both the State and Federal environmental review. The scoping meetings described in this Notice will also be the subject of additional public notification.

FRA is seeking participation and input of all interested Federal, State, and local agencies, Native American groups, and other concerned private organizations or individuals on the scope of the EIR/EIS. Implementation of the Merced to Sacramento Section of the HST System is a Federal undertaking with the potential to affect historic properties. As such, it is subject to the requirements of Section 106 of the National Historic Preservation Act of 1966 (16 U.S.C. 470f). In accordance with regulations issued by the Advisory Council on Historic Preservation, 36 CFR part 800, FRA intends to coordinate compliance with Section 106 of this Act with the preparation of the EIR/EIS, beginning with the identification of consulting parties through the scoping process, in a manner consistent with the standards set out in 36 CFR 800.8.

Issued in Washington, DC on December 23, 2009.
Paul Nissenbaum,
Director, Office of Passenger and Freight Programs, Federal Railroad Administration.

[FR Doc. E9-30963 Filed 12-29-09; 8:45 am]

BILLING CODE 4910-06-P